ENVIRONMENTAL PROTECTION AGENCY

40 CFR Part 93

[OAR-2003-0049, FRL-7857-2]

Options for PM2.5 and PM10 Hot-Spot Analyses in the Transportation Conformity Rule Amendments for the New PM2.5 and Existing PM10 National Ambient Air Quality Standards; Extension of Comment Period

AGENCY: Environmental Protection Agency (EPA).

ACTION: Supplemental notice of proposed rule; extension of comment period.

SUMMARY: The Environmental Protection Agency is extending the comment period for the supplemental proposal that included additional options for assessing localized impacts of individual transportation projects in particulate matter (PM2.5 and PM10) nonattainment and maintenance areas and requested comment on all options proposed. The supplemental notice of proposed rulemaking was published in the Federal Register on December 13, 2004 (69 FR 72140). EPA is extending the comment period for the proposed rule to January 27, 2005.

DATES: Written comments on this supplemental proposal (69 FR 72140) must be received on or before January 27, 2005.

ADDRESSES: Submit your comments, identified by Docket ID No. OAR-2003-0049 by one of the following methods:

• Federal eRulemaking Portal: http://www.regulations.gov. Follow the on-line instructions for submitting comments.

• Agency Web site: http://www.epa.gov/edocket. EDOCKET, EPA's electronic public docket and comment system, is EPA's preferred method for receiving comments. Follow the on-line instructions for submitting comments.

• E-mail: a-and-r-docket@epa.gov.

• Fax: 202-566-1741.

• Mail: Air Docket, Environmental Protection Agency, Mailcode: 6102T, 1200 Pennsylvania, Ave., NW., Washington, DC 20460, Attention Docket ID No. OAR-2003-0049.

• Hand Delivery: EPA Docket Center, room B102, EPA West Building, 1301 Constitution Avenue, NW., Washington DC. Such deliveries are only accepted during the Docket's normal hours of operation, and special arrangements should be made for deliveries of boxed information.

Instructions: Direct your comments to Docket ID No. OAR-2003-0049. EPA's policy is that all comments received will be included in the public docket without change and may be made available online at http://www.epa.gov/edocket, including any personal information provided, unless the comment includes information claimed to be Confidential Business Information (CBI) or other information whose disclosure is restricted by statute. Do not submit information that you consider to be CBI or otherwise protected through EDOCKET, regulations.gov, or e-mail. The EPA EDOCKET and the federal regulations.gov websites are “anonymous access” systems, which means EPA will not know your identity or contact information unless you provide it in the body of your comment. If you send an e-mail comment directly to EPA without going through EDOCKET or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit EDOCKET on-line or see the Federal Register of May 31, 2002 (67 FR 38102). For additional instructions on submitting comments, go to Unit I.C. of the Supplementary Information section of this document.

Docket: All documents in the docket are listed in the EDOCKET index at http://www.epa.gov/edocket. Although listed in the index, some information is not publicly available, i.e., CBI or other information whose disclosure is restricted by statute. Certain other material, such as copyrighted material, is not placed on the Internet and will be publicly available only in hard copy form. Publicly available docket materials are available either electronically in EDOCKET or in hard copy at the Air Docket, EPA/DC, EPA West, Room B102, 1301 Constitution Ave., NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: Rudy Kapichak, State Measures and Conformity Group, Transportation and Regional Programs Division, U.S. Environmental Protection Agency, 2000 Traverwood Road, Ann Arbor, MI 48105, e-mail address: kapichak.rudolph@epa.gov, telephone number: (734) 214-4574, fax number 734-214-4052; or Laura Berry, State Measures and Conformity Group, Transportation and Regional Programs Division, U.S. Environmental Protection Agency, 2000 Traverwood Road, Ann Arbor, MI 48105, e-mail address: berry.laura@epa.gov, telephone number: (734) 214-4858, fax number 734-214-4052.

SUPPLEMENTARY INFORMATION: EPA published a supplemental notice of proposed rulemaking (SNPRM) in the Federal Register on December 13, 2004 (69 FR 72140). That notice included a deadline for written comments of January 12, 2005. Since that time we have received requests for an extension of that deadline to allow additional time to review and comment on the proposed options for hot-spot analyses in PM2.5 and PM10 nonattainment and maintenance areas. As a result of these requests, EPA is extending the comment period on the supplemental proposal to January 27, 2005.

The requests received by EPA regarding an extension of the comment period focus on the ability of transportation conformity stakeholder groups to coordinate with their members and prepare meaningful comments during a 30-day comment period which includes two federal holidays. Stakeholder groups representing state and local air quality and transportation agencies and environmental and transportation advocacy groups frequently submit significant comments on proposed changes to the transportation conformity rule.

In the SNPRM, EPA requested comment on a wide range of options for hot-spot analyses in PM2.5 and PM10 nonattainment and maintenance areas both before and after state implementation plans are submitted. Specifically, we asked commenters to submit research and data that indicate the existence and prevalence of PM2.5 and PM10 hot-spots as well as legal rationale to support options that they preferred. Many of the options proposed in the SNPRM require state and local agencies to make decisions regarding the existence of hot-spots in their area as well as decisions regarding the specific types of locations within a nonattainment or maintenance area that are most susceptible to a localized violation of the PM2.5 or PM10 air quality standard. As such, commenters were requested to submit information indicating whether or not they would have sufficient data to make the decisions required by each of these options. Finally, commenters were asked to submit information on whether the U.S. Department of Transportation should be allowed to make categorical conformity determinations for certain types of highway projects and on what types of highway projects could be eligible for a categorical conformity determination.

It should be noted that EPA was requested to extend the comment period by 30 days to February 11, 2005. EPA believes that it is necessary to strike a balance between the additional time that was requested to complete and submit comments and the need to finalize these requirements in sufficient time so that state and local transportation planners are prepared to implement them by the end of the one year conformity grace period that applies in PM2.5 nonattainment areas. Given the timing of the publication of the SNPRM and the significant amount of information that is requested from commenters, EPA is extending the comment period to January 27, 2005.

Dated: December 28, 2004.
Jeffrey Holmstead,
Assistant Administrator, Office of Air and Radiation.

[FR Doc. 05-83 Filed 1-3-05; 8:45 am]

BILLING CODE 6560-50-P